DEPARTMENT OF LABOR

Employment and Training Administration

[TA-W-41,645B and TA-W-41,645C]

Deckerville Wire Company, ADP TotalSource, A subsidiary of Clements Manufacturing LLC, Harbor Beach, Michigan; Brown City Wire Company, ADP TotalSource, A subsidiary of Clements Manufacturing LLC, Harbor Beach, Michigan; Amended Certification Regarding Eligibility To Apply for Worker Adjustment Assistance

In accordance with section 223 of the Trade Act of 1974 (19 U.S.C. 2273) the Department of Labor issued a Certification of Eligibility to Apply for Worker Adjustment Assistance on August 22, 2002, applicable to workers of Deckerville Wire Company, a subsidiary of Clements Manufacturing LLC, Harbor Beach, Michigan and Brown City Wire Company, a subsidiary of Clements Manufacturing LLC, Harbor Beach, Michigan. The notice was published in the Federal Register on September 10, 2002 (67 FR 57456).

At the request of the State agency, the Department reviewed the certification for workers of the subject firm. The workers produce automobile wire harnesses.

The company reports that in January 2004, employees of Deckerville Wire Company and Brown City Wire Company became employees of ADP TotalSource and that worker wages are reported under the Unemployment Insurance tax accounts for Deckerville Wire Company, ADP TotalSource and Deckerville Wire Company, ADP TotalSource.

Accordingly, the Department is amending the certification to reflect this matter.

The intent of the Department's certification is to include all workers of the subject firms adversely affected by increased imports.

The amended notice applicable to TA-W-41,645B and TA-W-41,645C are hereby issued as follows:

All workers of Deckerville Wire Company, ADP TotalSource, Harbor, Beach, Michigan, a subsidiary of Clements Manufacturing, headquartered in Sterling Heights, Michigan TA-W-41,645B and Brown City Wire Company, ADP TotalSource, Harbor Beach, Michigan a subsidiary of Clements Manufacturing, headquartered in Sterling Heights, Michigan (TA-W-41,645C), who became totally or partially separated from employment on or after May 15, 2001, through August 22, 2004, are eligible to apply for adjustment assistance under section 223 of the Trade Act of 1974.

Signed in Washington, DC, this 2nd day of September, 2004.
Elliott S. Kushner,
Certifying Officer, Division of Trade Adjustment Assistance.

[FR Doc. 04-20864 Filed 9-15-04; 8:45 am]

BILLING CODE 4510-30-M